ENVIRONMENTAL PROTECTION AGENCY

40 CFR Part 180

[OPP-2004-0083; FRL-7351-9]

Thifensulfuron-methyl; Withdrawal of Tolerance Actions

AGENCY: Environmental Protection Agency (EPA).

ACTION: Withdrawal of direct final rule.

SUMMARY: Because EPA received relevant adverse comment, the Agency is withdrawing the direct final rule for the reinstatement of corn tolerances for the herbicide thifensulfuron-methyl. EPA published the direct final rule on February 13, 2004 which would have reinstated corn tolerances for the herbicide thifensulfuron-methyl that were previously established but inadvertently removed shortly thereafter. EPA stated in that direct final rule that if relevant adverse comment were received by April 13, 2004, the Agency would publish a timely withdrawal in the Federal Register. EPA subsequently received relevant adverse comment on that direct final rule. EPA will therefore publish a notice of proposed rulemaking in a future edition of the Federal Register. The Agency will address the comments on the direct final rule as part of that proposed rulemaking.

DATES: As of April 14, 2004, EPA withdraws the direct final rule published at 69 FR 7161, on February 13, 2004.

FOR FURTHER INFORMATION CONTACT: Joseph Nevola, Special Review and Reregistration Division (7508C), Office of Pesticide Programs, Environmental Protection Agency, 1200 Pennsylvania Ave., NW.,Washington, DC 20460-0001; telephone number: (703) 308-8037; e-mail address:nevola.joseph@epa.gov.

SUPPLEMENTARY INFORMATION: EPA received a relevant adverse comment during the comment period for the February 13, 2004 (69 FR 7161) (FRL-7338-6) direct final rule in which the Agency stated that it would reinstate corn tolerances for residues of the herbicide thifensulfuron-methyl that were previously established by rulemaking in the Federal Register and that were inadvertently removed from 40 CFR 180.439. Because of a relevant adverse comment, EPA is withdrawing the direct final rule so that it will not take effect. EPA will publish a notice of proposed rulemaking in a future issue of the Federal Register and address the comments on the direct final rule as part of that notice of proposed rulemaking.

Currently, there are active products registered under the Federal Insecticide, Fungicide, and Rodenticide Act (FIFRA) which list corn as a use site for thifensulfuron-methyl application. These registrations have existed since 1994 with associated tolerances established in May 1994. In the direct final rule of February 13, 2004 (69 FR 7161), EPA stated that the deletion of the corn tolerances from the 40 CFR was both inadvertent and improper.

List of Subjects in 40 CFR Part 180

Environmental protection, Administrative practice and procedure, Agricultural commodities, Pesticides and pests, Reporting and recordkeeping requirements.

Dated: March 26, 2004.
James Jones,
Director, Office of Pesticide Programs.

Accordingly, the direct final rule for thifensulfuron-methyl published in the Federal Register of February, 13, 2004 at 69 FR 7161 is withdrawn.

[FR Doc. 04-8103 Filed 4-13-04; 8:45 am]

BILLING CODE 6560-50-S